OFFICE OF PERSONNEL MANAGEMENT

SES Performance Review Board

AGENCY: Office of Personnel Management.

ACTION: Notice.

SUMMARY: Notice is hereby given of the appointment of members of the OPM Performance Review Board.

FOR FURTHER INFORMATION CONTACT: Teresa Floyd, Office of Human Resources and EEO, Office of Personnel Management, 1900 E Street, NW., Washington, DC 20415, (202) 606-2309.

SUPPLEMENTARY INFORMATION: Section 4314(c) (1) through (5) of title 5, U.S.C., requires each agency to establish, in accordance with regulations prescribed by the Office of Personnel Management, one or more SES performance review boards. The board reviews and evaluates the initial appraisal of a senior executive's performance by the supervisor, and considers recommendations to the appointing authority regarding the performance of the senior executive.

Office of Personnel Management.
Kay Coles James,
Director.

The following have been designated as regular members of the Performance Review Board of the Office of Personnel Management:

Paul T. Conway, Chief of Staff—Chair.

Kathy L. Dillaman, Acting Director, Investigations Service.

William E. Flynn, Senior Policy Advisor to the Director.

John C. Gartland, Director, Office of Congressional Relations.

Doris L. Hausser, Acting Director, Workforce Compensation and Performance Service.

Teresa M. Jenkins, Director, Office of Workforce Relations.

Gail Lovelace, Chief People Officer, General Services Administration.

Mark A. Robbins, General Counsel.

[FR Doc. 02-31085 Filed 12-9-02; 8:45 am]

BILLING CODE 6325-45-P